ENVIRONMENTAL PROTECTION AGENCY

[ER-FRL-9053-5]

Environmental Impact Statements; Notice of Availability

Responsible Agency: Office of Federal Activities, General Information 202-564-5632 or https://www.epa.gov/nepa.

Weekly receipt of Environmental Impact Statements (EIS)

Filed October 9, 2020 10 a.m. EST Through October 19, 2020 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20200206, Draft Supplement, NRCS, MO, East Locust Creek Watershed Revised Plan, Comment Period Ends: 12/07/2020, Contact: Chris Hamilton 573-876-9416.

EIS No. 20200207, Final, BIA, CA, Tejon Trust Acquisition and Casino Project, Review Period Ends: 11/23/2020, Contact: Chad Broussard 916-978-6165.

EIS No. 20200208, Final, BLM, WY, Final Resource Management Plan Amendments/Environmental Impact Statement Wyoming Pipeline Corridor Initiative, Review Period Ends: 11/23/2020, Contact: Heather Schultz 307-775-6084.

Dated: October 19, 2020.
Cindy S. Barger,
Director, NEPA Compliance Division, Office of Federal Activities.

[FR Doc. 2020-23482 Filed 10-22-20; 8:45 am]

BILLING CODE 6560-50-P